DEPARTMENT OF AGRICULTURE

Submission for OMB Review; Comment Request

March 21, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: CCC's Dairy Export Incentive Program (DEIP).

OMB Control Number: 0551-0028.

Summary of Collection: The major objective of the Dairy Export Incentive Program (DEIP) is to expand U.S. agricultural exports by paying cash to exporters as bonuses, allowing them to sell U.S. agricultural products in targeted countries at competitive prices. When the program is operational, approximately 100 countries and 3 regions are targeted export destinations and 425 exporters are eligible to participate under the DEIP. Under 7 CFR part 1494, exporters are required to submit the following: (1) Information required for program participation (section 1494.301), (2) performance security (section 1494.401), (3) export sales information in connection with applying for a CCC bonus (section 1494.501), and (4) documentation evidencing export to support payment of the bonus (section 1494.701) In addition, each exporter must maintain accurate records showing sales and deliveries of the eligible commodity exported in connection with an agreement made under the DEIP, as outlined in section 1494.1001.

Need and Use of the Information: The Foreign Agricultural Service (FAS) collects information from participating U.S. exporters in order to determine the exporters' eligibility for the DEIP program benefits. Program applicants can fax a letter in or applicants may register over the Internet. Information collected from U.S. exporters is used by CCC to manage, plan for, and evaluate the use of, and account for Government resources. Without the application and related information, FAS would be unable to properly qualify U.S. exporters for DEIP.

Description of Respondents: Business or other for-profit.

Number of Respondents: 9.

Frequency of Responses: Recordkeeping; Reporting: On occasion.

Total Burden Hours: 47.

Ruth Brown,
Departmental Information Collection Clearance Officer.

[FR Doc. 2013-06951 Filed 3-26-13; 8:45 am]

BILLING CODE 3410-10-P